DEPARTMENT OF COMMERCE

National Oceanic and Atmospheric Administration

50 CFR Part 648

[Docket No. 161017970-6999-02]

RIN 0648-XF651

Fisheries of the Northeastern United States; Scup Fishery; Adjustment to the 2017 Winter II Quota

AGENCY: National Marine Fisheries Service (NMFS), National Oceanic and Atmospheric Administration (NOAA), Commerce.

ACTION: Temporary rule; inseason adjustment.

SUMMARY: NMFS adjusts the 2017 Winter II commercial scup quota and per trip Federal landing limit. This action is intended to comply with Framework Adjustment 3 to the Summer Flounder, Scup, and Black Sea Bass Fishery Management Plan that established the rollover of unused commercial scup quota from the Winter I period to the Winter II period. This notice is intended to inform the public of this quota and trip limit change.

DATES: Effective November 1, 2017, through December 31, 2017.

FOR FURTHER INFORMATION CONTACT: Cynthia Hanson, Fishery Management Specialist, (978) 281-9180.

SUPPLEMENTARY INFORMATION: NMFS published a final rule in the Federal Register on November 3, 2003 (68 FR 62250), implementing a process to roll over unused Winter I commercial scup quota (January 1 through April 30) to be added to the Winter II period quota (November 1 through December 31). This framework also allows adjustment of the commercial possession limit for the Winter II period dependent on the amount of quota rolled over from the Winter I period.

For 2017, the initial Winter II quota is 2,929,762 lb (1,329 mt). The best available landings information indicates that 2,231,152 lb (1,012 mt) remain of the 8,291,190 lb (3,761 mt) of Winter I quota. Consistent with Framework 3, the full amount of unused 2017 Winter I quota is being transferred to Winter II, resulting in a revised 2017 Winter II quota of 5,160,914 lb (2,341 mt). Because the amount transferred is greater than 2,000,000 lb (907 mt), the Federal per trip possession limit will increase from 12,000 lb (5,443 kg) to 18,000 lb (8,165 kg), as outlined in the final rule that established the possession limit and quota rollover procedures for this year, published on December 28, 2015 (80 FR 80689).

Classification

This action is required by 50 CFR part 648 and is exempt from review under Executive Order 12866.

The Assistant Administrator for Fisheries, NOAA, finds good cause pursuant to 5 U.S.C. 553(b)(B) to waive prior notice and the opportunity for public comment on this in-season adjustment because it would be contrary to the public interest. If implementation of this in-season action is delayed to solicit prior public comment, the objective of the fishery management plan to achieve the optimum yield from the fishery could be compromised; deteriorating weather conditions during the latter part of the fishing year will reduce fishing effort and could prevent the annual quota from being fully harvested. This would conflict with the agency's legal obligation under the Magnuson-Stevens Fishery Conservation and Management Act to achieve the optimum yield from a fishery on a continuing basis, resulting in a negative economic impact on vessels permitted to fish in this fishery. Moreover, the rollover process and potential changes in trip limits were already outlined in the 2016 to 2018 specifications published December 28, 2015, that were provided for notice and comment rulemaking.

Authority: 16 U.S.C. 1801 et seq.

Dated: September 8, 2017.
Emily H. Menashes,
Acting Director, Office of Sustainable Fisheries, National Marine Fisheries Service.

[FR Doc. 2017-19464 Filed 9-13-17; 8:45 am]

BILLING CODE 3510-22-P